DEPARTMENT OF DEFENSE

Defense Contract Audit Agency

Privacy Act of 1974; Systems of Records

AGENCY: Defense Contract Audit Agency

ACTION: Notice to Delete a Record System

SUMMARY: The Defense Contract Audit Agency is deleteing a system of records notice in its inventory of record systems subject to the Privacy Act of 1974 (5 U.S.C. 552a), as amended.

DATES: The actions will be effective on October 27, 2000 unless comments are received that would result in a contrary determination.

ADDRESSES: Send comments to Defense Contract Audit Agency, Information and Privacy Advisor, CMR, 8725 John J. Kingman Road, Suite 2135, Fort Belvoir, VA 22060-6219.

FOR FURTHER INFORMATION CONTACT: Mr. Dave Henshall at (703) 767-1005.

SUPPLEMENTARY INFORMATION: The Defense Contract Audit Agency notices for systems of records subject to the Privacy Act of 1974 (5 U.S.C. 552a), as amended, have been published in the Federal Register and are available from the address above.

The proposed action is not within the purview of subsection (r) of the Privacy Act (5 U.S.C. 552a), as amended, which would require the submission of a new or altered system report for each system.

RDCAA 160.5

System name:

Travel Orders (August 3, 2000, 65 FR 48221).

Reason: These records are now being maintained under the government-wide Privacy Act system of records notice GSA/Govt-4, Contracted Travel Services Program.

Dated: September 20, 2000.
L.M. Bynum,
Alternate OSD Federal Register Liaison Officer, Department of Defense.

[FR Doc. 00-24714 Filed 9-26-00; 8:45 am]

BILLING CODE 5001-10-F